DEPARTMENT OF TRANSPORTATION

Federal Motor Carrier Safety Administration

[Docket No. FMCSA-2004-18536]

Notice of Request for Clearance of a New Information Collection: Bus Crash Causation Study

AGENCY: Federal Motor Carrier Safety Administration (FMCSA), DOT.

ACTION: Notice and request for comments.

SUMMARY: In accordance with the requirement in section 3506(c)(2)(A) of the Paperwork Reduction Act of 1995, this notice announces the intention of the FMCSA to request the Office of Management and Budget (OMB) to approve a new information collection related to a study of the causation of commercial motor vehicle crashes mandated by the Motor Carrier Safety Improvement Act of 1999. The bus study will fulfill the bus portion of this mandate and aid in the determination of the reasons for, and factors contributing to, serious bus crashes.

DATES: Comments must be submitted on or before October 22, 2004.

ADDRESSES: All signed, written comments should refer to the docket number that appears in the heading of this document and must be submitted to the Docket Clerk, U.S. DOT Dockets, Room PL-401, 400 Seventh Street, SW., Washington, DC 20590-0001. All comments received will be available for examination at the above address between 10 a.m. to 5 p.m., e.t., Monday through Friday, except Federal holidays. Those desiring notification of receipt of comments must include a self-addressed, stamped postcard or envelope.

Electronic Access: An electronic copy of this document may be downloaded using the Internet at the Office of the Federal Register's home page at: http://www.nara.gov/fedreg and the Government Printing Office's database at: http://www.access.gpo.gov/nara. For Internet users, all comments received will be available for examination at the universal source location: http://dms.dot.gov. Please follow the instructions on-line for additional information and guidance.

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

FOR FURTHER INFORMATION CONTACT: Mr. Ralph Craft, Program Manager, Bus Crash Causation Study, (202) 366-0324, Office of Information Management, Analysis Division, Federal Motor Carrier Safety Administration, 400 7th Street SW., Suite 8214, Washington, DC 20590. Office hours are from 7 a.m. to 4:30 p.m., e.t., Monday through Friday, except Federal holidays.

SUPPLEMENTARY INFORMATION:

Title: Bus Crash Causation Study.

Background: No national database exists that contains information describing the causes of, the reasons for, and the factors contributing to bus crashes. The purpose of the Bus Crash Causation Study is to gather this information for serious bus crashes. With these data, FMCSA and the States will be able to more effectively implement countermeasures to reduce the occurrence and severity of these crashes. The study is required under Section 224 of the Motor Carrier Safety Improvement Act of 1999 (Public Law 106-159, 113 Stat. 1748 (December 9, 1999). Buses are defined as vehicles designed or used to transport 9 to 15 people (including the driver) for compensation, or more than 15 people for any purpose.

The FMCSA will conduct a three-part bus crash causation study beginning in 2004. The three parts of the study are as follows: (1) Mining current databases, such as the Fatality Analysis Reporting System (FARS), Buses Involved in Fatal Accidents (BIFA) and Motor Carrier Management Information System (MCMIS) for causation factors; (2) evaluating insurance companies data to assess the quality, quantity and usefulness of bus crash causation data; and (3) collecting extensive data on a sample of crashes in the field. FMCSA field staff, FMCSA contractors and New Jersey State Police (NJSP) will collect more than 400 pieces of data on 50-100 crashes involving commercial buses in northern and central New Jersey throughout 2005. Transit and school buses are excluded from the study. The New Jersey State safety agencies will also be important partners in this study at several levels including: data collection form design, crash notification, crash investigation and bus post crash inspections.

Respondents: The respondents will be individuals involved in the selected bus crashes including the bus drivers, other drivers, passengers, witnesses and motor carrier officials.

Average Burden Per Response: The estimated average burden per response is 1 hour.

Estimated Total Annual Burden: The estimated total annual burden is 500 hours (500 interviews × 1 hour per response).

Frequency: Once.

Public Comments Invited: Interested parties are invited to send comments regarding any aspect of this information collection, including, but not limited to: (1) The necessity and utility of the information collection for the proper performance of the functions of the FMCSA; (2) the accuracy of the estimated burden; (3) ways to enhance the quality, utility and clarity of the collected information; and (4) ways to minimize the collection burden without reducing the quality of the collected information. Comments submitted in response to this notice will be summarized and/or included in the request for OMB clearance of this information collection.

Authority: The Paperwork Reduction Act of 1995, 44 U.S.C. Chapter 35, as amended; Pub. L. 106-159, 113 Stat. 1748 (December 9, 1999); and 49 CFR § 1.73.

Issued on: August 10, 2004.
Annette M. Sandberg,
Administrator.

[FR Doc. 04-19255 Filed 8-20-04; 8:45 am]

BILLING CODE 4910-EX-P